INTERNATIONAL TRADE COMMISSION

[USITC SE-18-057]

Sunshine Act Meetings

AGENCY HOLDING THE MEETING: United States International Trade Commission.

TIME AND DATE: December 7, 2018 at 11:00 a.m.

PLACE: Room 101, 500 E Street SW, Washington, DC 20436, Telephone: (202) 205-2000.

STATUS: Open to the public.

MATTER TO BE CONSIDERED:

1. Agendas for future meetings: None.

2. Minutes.

3. Ratification List.

4. Vote on Inv. Nos. 701-TAn14 and 731-TA-1431 (Preliminary) (Magnesium from Israel). The Commission is currently scheduled to complete and file its determinations on December 10, 2018; views of the Commission are currently scheduled to be completed and filed on December 17, 2018.

5. Outstanding action jackets: None.

In accordance with Commission policy, subject matter listed above, not disposed of at the scheduled meeting, may be carried over to the agenda of the following meeting.

By order of the Commission.
Issued: November 27, 2018.
William Bishop,
Supervisory Hearings and Information Officer.

[FR Doc. 2018-26069 Filed 11-27-18; 4:15 pm]

BILLING CODE 7020-02-P